DEPARTMENT OF LABOR

Employment and Training Administration

Proposed Information Collection Request of the ETA-5130 Benefit Appeals Report; Comment Request on Extension Without Change (OMB Control No. 1205-0172)

AGENCY: Employment and Training Administration.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 [44 U.S.C. 3506(c)(2)(A); 3506 (b)(1) (2) (3)]. This program helps to ensure that requested data can be provided in the desired format, reporting burden (time and financial resources) is minimized, collection instruments are clearly understood, and the impact of collection requirements on respondents can be properly assessed.

A copy of the proposed information collection request (ICR) can be obtained by contacting the office listed below in the addressee section of this notice.

DATES: Written comments must be submitted to the office listed in the addressee's section below on or before November 1, 2010.

ADDRESSES: Send comments to Brian Langley, Office of Unemployment Insurance, Employment and Training Administration, U.S. Department of Labor, Room S-4516, 200 Constitution Avenue, NW., Washington, DC 20210, telephone number (202) 693-3202 (this is not a toll-free number) or by e-mail: Langley.brian@dol.gov.

SUPPLEMENTARY INFORMATION:

I. Background

The ETA-5130, Benefit Appeals Report, contains information on the number of unemployment insurance appeals and the resultant decisions classified by program, appeals level, cases filed and disposed of (workflow), and decisions by level, appellant, and issue. The data on this report are used by the Department of Labor to monitor the benefit appeals process in the State Workforce Agencies (SWAs) and to develop any needed plans for remedial action. The data are also needed for workload forecasts and to determine administrative funding. If this information were not available, developing problems might not be discovered early enough to allow for timely solutions and avoidance of time consuming and costly corrective action.

II. Review Focus

Currently, the Employment and Training Administration is soliciting comments concerning the proposed extension collection of the ETA-5130 Benefit Appeals Report, which expires November 30, 2010. Comments are requested to:

* Evaluate whether the proposed collection of information is necessary for the proper performance of the functions of the agency, including whether the information will have practical utility;

* Evaluate the accuracy of the agency's estimate of the burden of the proposed collection of information;

* Enhance the quality, utility, and clarity of the information to be collected; and

* Minimize the burden of the collection of information on those who are to respond, including through the use of automated collection techniques or other forms of information technology.

III. Current Actions

Type of Review: Extension.

Agency: Employment and Training Administration.

Title: Benefit Appeals Report.

OMB Number: 1205-0172.

Agency Number: ETA-5130.

Recordkeeping: 3-year record retention.

Affected Public: State Governments.

Cite/Reference/Form/etc: Social Security Act, Section 303(a)(6).

Total Respondents: 53.

Frequency: Monthly.

Total Responses: 53 respondents × 12 responses per year = 636 responses for the regular program, 53 respondents × 12 responses per year = 636 responses for the Emergency Unemployment Compensation 2008 program, 53 respondents × 12 responses per year = 636 responses for the Federal-State extended benefit program for an estimated total of 1,908 responses.

Average Estimated Response Time: 1 hour.

Estimated Annual Burden Hours: 1,908 hours (636 hours for the ETA 5130 Regular report + 636 hours for the ETA 5130 Federal-State Extended Benefits report + 636 hours for the ETA 5130 Emergency Unemployment Compensation Report).

Total Burden Cost (capital/startup): $0.

Total Burden Cost (operating/maintaining): $0.

Comments submitted in response to this notice will be summarized and/or included in the request for Office of Management and Budget approval of the ICR; they will also become a matter of public record.

Dated: August 27, 2010.
Jane Oates,
Assistant Secretary, Employment and Training Administration.

[FR Doc. 2010-21873 Filed 9-1-10; 8:45 am]

BILLING CODE 4510-FW-P